COMMISSION ON CIVIL RIGHTS

Commission on the Social Status of Black Men and Boys; Sunshine Act Meetings

AGENCY: Commission on the Social Status of Black Men and Boys (CSSBMB), U.S. Commission on Civil Rights.

ACTION: Notice of CSSBMB public business meeting.

DATES: Friday, April 22, 2022, 1 p.m. ET.

ADDRESSES: Virtual briefing via: https://www.youtube.com/user/USCCR/videos.

FOR FURTHER INFORMATION CONTACT: Dr. Marvin Williams, 202-339-2371, pressbmb@usccr.gov.

SUPPLEMENTARY INFORMATION: In accordance with Public Law 116-156, 1134 Stat. 700 (2020), the Commission on the Social Status of Black Men and Boys (CSSBMB) will hold a public meeting. This meeting is open to the public via livestream on the Commission on Civil Rights' YouTube Page at https://www.youtube.com/user/USCCR/videos. (Streaming information subject to change.) Public participation is available for the event with view access, along with an audio option for listening. Computer assisted real-time transcription (CART) will be provided. The web link to access CART (in English) on Friday, Friday, April 22, 2022, is https://www.steamtext.net/player?event=USCCR (* subject to change). Please note that CART is text-only translation that occurs in real time during the meeting and is not an exact transcript.

* Date and meeting details are subject to change. For more information or the CSSBMB or the upcoming public meeting, please visit CSSBMB's website at www.usccr.gov/about/CSSBMB.

Meeting Agenda

I. Opening Remarks by CSSBMB Chair, Frederica S. Wilson

II. Call to Order

III. Approval of Agenda

IV. Roundtable Discussion w/Expert Panelists

V. Business Meeting

A. Formation of subcommittee to complete the Annual Report 2022

B. Approval of November 9, 2021, and January 14, 2022, Meeting Minutes

VI. Management and Operations *

VII. Adjourn Meeting

Dated: April 14, 2022.
Angelia Rorison,
USCCR Media and Communications Director.

[FR Doc. 2022-08316 Filed 4-14-22; 11:15 am]

BILLING CODE 6335-01-P